DEPARTMENT OF COMMERCE

National Oceanic and Atmospheric Administration

50 CFR Part 635

[I.D. 033100D]

Atlantic Highly Migratory Species Fisheries; Atlantic Bluefin Tuna

AGENCY: National Marine Fisheries Service (NMFS), National Oceanic and Atmospheric Administration (NOAA), Commerce.

ACTION: Retention limit adjustment.

SUMMARY: NMFS extends the expiration date of the current daily retention limit for the Angling category fishery for Atlantic bluefin tuna (BFT), which published on December 16, 1999. The current daily retention limit per vessel in all areas of one large school or small medium BFT (measuring 47 to less than 73 inches, 119 to less than 185 cm, curved fork length) is extended from May 31, 2000, through June 22, 2000. In addition, NMFS is making subsequent adjustments to the daily retention limit, as noted in the DATES section of this document. This action is being taken to provide increased fishing opportunities in all areas without risking overharvest of this category.

DATES: The expiration date of the current daily retention limit in all areas of one large school or small medium BFT (published on December 16, 1999, at 64 FR 70198) is extended from May 31, 2000, through June 22, 2000.

Effective June 23 through July 30, 2000, the daily retention limit in all areas is adjusted to two school BFT and one large school or small medium BFT.

Effective July 31, 2000, the daily retention limit in all areas is adjusted to one large school or small medium BFT until May 31, 2001.

FOR FURTHER INFORMATION CONTACT: Sarah McLaughlin, (978) 281-9146.

SUPPLEMENTARY INFORMATION: Regulations implemented under the authority of the Atlantic Tunas Convention Act (16 U.S.C. 971 et seq.) and the Magnuson-Stevens Conservation and Management Act (16 U.S.C. 1801 et seq.) governing the harvest of BFT by persons and vessels subject to U.S. jurisdiction are found at 50 CFR part 635.

Implementing regulations for the Atlantic tuna fisheries at § 635.23 allow for adjustments to the daily retention limits in order to provide for maximum utilization of the quota over the longest possible period of time. NMFS may increase or reduce the per angler retention limit for any size class BFT or may change the per angler limit to a per boat limit or the per boat limit to a per angler limit.

NMFS is responsible for implementing a recommendation of the International Commission for the Conservation of Atlantic Tunas (ICCAT) to limit the catch of school BFT to no more than 8 percent by weight of the total domestic landings quota over each 4-consecutive-year period. NMFS is implementing this ICCAT recommendation through annual and inseason adjustments to the school BFT retention limits, as necessary, and through the establishment of a school BFT reserve (64 FR 29090, May 28, 1999; 64 FR 29806, June 3, 1999). The recent ICCAT recommendation allows NMFS more flexibility to make interannual adjustments for overharvests and underharvests, provided that the 8-percent landings limit is met over the applicable 4-consecutive-year period. This approach provides NMFS with the flexibility to enhance fishing opportunities and the collection of information on a broad range of BFT size classes and responds to requests from the recreational fishing community for more advance notice of retention limit adjustments and greater certainty in planning for the fishing season.

In the last few years, NMFS has received comment from mid-Atlantic fishermen that the implementation of an increased daily retention limit over a date-certain period is preferable to a longer season with a lower daily retention limit as it facilitates the scheduling of fishing trips, particularly charter trips. In 1999, NMFS increased the daily retention limit to two school BFT and one large school or small medium BFT per vessel for the periods June 25 through July 25 and September 1 through October 6. Comments from Angling category participants regarding the 1999 fishing season have been positive, and NMFS intends to provide advanced notice regarding daily retention limits again for the 2000 fishing year. Since October 6, 1999, NMFS has maintained the daily retention limit at one large school or small medium BFT per vessel. Because the current daily retention limit is valid only through the end of the 1999 fishing year, i.e., May 31, 2000 (64 FR 70198, December 16, 1999), NMFS must announce a daily retention limit adjustment effective June 1, 2000, even though NMFS does not intend to increase the retention limit from the current limit until late June 2000.

Therefore, beginning June 1, 2000, NMFS adjusts the BFT Angling category daily retention limit for all areas to one large school or small medium BFT per vessel, effectively maintaining the current retention limit through June 22, 2000. Effective June 23 through July 30, 2000, NMFS adjusts the daily retention limit for all areas to two school BFT and one large school or small medium BFT per vessel. After July 30, 2000, the daily retention limit for all areas will be one large school or small medium BFT per vessel. NMFS intends to adjust the daily retention limit again during late summer and early fall season when BFT have moved further north to the waters off Rhode Island, New York, and northern New Jersey, provided that BFT Angling category quota remains available.

NMFS selected the daily retention limit and the duration of the daily retention limit adjustment after examining past catch and effort rates. NMFS will continue to monitor the Angling category fishery closely through the Automated Landings Reporting System, the state harvest tagging programs in North Carolina and Maryland, and the Large Pelagic Survey. Depending on the level of fishing effort and catch rates of BFT, NMFS may determine that an interim closure or an additional retention limit adjustment is necessary to enhance scientific data collection from, and fishing opportunities in, all geographic areas. Additionally, NMFS may determine that an allocation from the school BFT reserve is warranted to further fishery management objectives.

Closures or subsequent adjustments to the daily retention limit, if any, will be announced through publication in the Federal Register. In addition, anglers may call the Atlantic Tunas Information Line at (888) 872-8862 or (978) 281-9305 for updates on quota monitoring and retention limit adjustments. Anglers aboard Charter/Headboat category vessels, when engaged in recreational fishing for school, large school, and small medium BFT, are subject to the same rules as anglers aboard Angling category vessels. All BFT landed under the Angling category quota must be reported within 24 hours of landing to the NMFS Automated Landings Reporting System via phone: (888) 872-8862; or the Internet (www.nmfspermits.com); or, if landed in the states of North Carolina or Maryland, to a reporting station prior to offloading. Information about these state harvest tagging programs, including reporting station locations, can be obtained in North Carolina by calling (800) 338-7804, and in Maryland by calling (410) 213-1531.

In addition, anglers aboard permitted vessels may continue to tag and release BFT of all sizes under a tag-and-release program, provided the angler tags all BFT so caught, regardless of whether previously tagged, with conventional tags issued or approved by NMFS, returns such fish to the sea immediately after tagging with a minimum of injury, and reports the tagging, and, if the BFT was previously tagged, the information on the previous tag (50 CFR 635.26).

Classification

This action is taken under 50 CFR 635.23(b)(3). This action is exempt from review under E.O. 12866.

Authority: 16 U.S.C. 971 et seq. and 1801 et seq.

Dated: April 6, 2000.
Gary C. Matlock,
Director, Office of Sustainable Fisheries, National Marine Fisheries Service.

[FR Doc. 00-9123 Filed 4-12-00; 8:45 am]

BILLING CODE 3510-22-F